DEPARTMENT OF AGRICULTURE

Agricultural Marketing Service

7 CFR Part 1214

[Document No. AMS-FV-10-0008-FR-1A]

RIN 0581-AD00

Christmas Tree Promotion, Research, and Information Order; Lifting of the Stay of Regulation

AGENCY: Agricultural Marketing Service, USDA.

ACTION: Final rule; lifting stay of regulations.

SUMMARY: On November 8, 2011, a final rule was published in the Federal Register (76 FR 69094) establishing an industry-funded promotion, research, and information program for fresh cut Christmas trees. The effective date of the final rule was November 9, 2011. On November 17, 2011, the Christmas Tree Promotion Research and Information Order (Order) date was stayed to provide all interested persons, including the Christmas tree industry and the general public, an opportunity to become more familiar with the program. The stay is being lifted in accordance with the provisions of the Agricultural Act of 2014.

DATES: The removal of the stay of subpart A of 7 CFR part 1214 will become effective April 8, 2014.

FOR FURTHER INFORMATION CONTACT: Patricia A. Petrella, Marketing Specialist, Promotion and Economics Division, Fruit and Vegetable Programs, AMS, USDA, 1400 Independence Avenue SW., Room 1406, Stop 0244, Washington, DC 20250-0244; telephone: (301) 334-2891; or facsimile: (301) 334-2896; or email: Patricia.Petrella@ams.usda.gov.

SUPPLEMENTARY INFORMATION: The Department of Agriculture (Department) published in the Federal Register on November 8, 2011, (76 FR 69094) a final rule that established a Christmas Tree Promotion, Research, and Information Order (Order). This Order was issued pursuant to the Commodity Promotion, Research, and Information Act of 1996 (7 U.S.C. 7411-7425). A stay of the regulation was issued on November 17, 2011 (76 FR 71241) to provide additional time for the Department to reach out to the Christmas Tree industry and the public to explain how a research and promotion program is a producer driven program to support American farmers. The Department did provide additional information to interested parties including the Christmas tree industry, the media, and the public, to explain how the program works and the overall benefits of research and promotion programs. Industry stakeholders also conducted outreach among the industry and other interested persons.

The stay is being lifted in accordance with the provisions of the Agricultural Act of 2014. Section 10014 states that not later than 60 days after the date of the enactment of this Act, the Secretary of Agriculture shall lift the administrative stay imposed and published by the Department on November 17, 2011.

Accordingly, the stay is lifted to allow the program to become effective.

Authority: 7 U.S.C. 7411-7425 and 7401.

Dated: April 2, 2014.
Rex A. Barnes,
Associate Administrator.

[FR Doc. 2014-07684 Filed 4-4-14; 8:45 am]

BILLING CODE 3410-02-P